SECURITIES AND EXCHANGE COMMISSION

[Investment Company Act Release No. 34588; File No. 812-15168]

Stone Point Credit Corporation, et al.

May 18, 2022.

AGENCY: Securities and Exchange Commission (“Commission” or “SEC”).

ACTION: Notice.

Notice of application for an order under sections 17(d) and 57(i) of the Investment Company Act of 1940 (the “Act”) and rule 17d-1 under the Act to permit certain joint transactions otherwise prohibited by sections 17(d) and 57(a)(4) of the Act and rule 17d-1 under the Act.

SUMMARY OF APPLICATION: Applicants request an order to permit certain business development companies and closed-end management investment companies to co-invest in portfolio companies with each other and with certain affiliated investment entities.

APPLICANTS: Stone Point Credit Corporation, Stone Point Credit Adviser LLC, Stone Point Capital LLC, SPC Capital Markets LLC, SPC Financing Company LLC, SPC Opportunities Fund, L.P., SPC Opportunities Parallel Fund, L.P., SPC Opportunities Feeder Fund, L.P., SPC Opportunities Parallel Feeder Fund, L.P., SPC Opps Professionals Fund, L.P., SPC Wilson Point, L.P., SPC Opps Wilson Point, L.P., Overland Point, L.P., SPC Opps Overland Point, L.P., SPC Oyster Point, L.P., SPC Pacific Point, L.P., SPC Pacific Point II, L.P., SPC Pacific Point-A, L.P., SPC Pacific Point II-A, L.P., SPC Opps Fund Holdings I, L.P., SPC Opps Fund Holdings II, L.P., SPC Opps 1903 Holdings LLC, Almond Point, L.P. and SPC Opps Holdings S.a.R.L.

FILING DATES: The application was filed on October 1, 2020, and amended on February 11, 2021, July 6, 2021, and May 5, 2022.

HEARING OR NOTIFICATION OF HEARING: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. Hearing requests should be received by the Commission by 5:30 p.m. on June 13, 2022, and should be accompanied by proof of service on Applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the SEC's Secretary at Secretarys-Office@sec.gov.

ADDRESSES: The Commission: Secretarys-Office@sec.gov. Applicants: William J. Bielefeld, Esq. at William.Bielefeld@dechert.com.

FOR FURTHER INFORMATION CONTACT: Jean E. Minarick, Senior Counsel, or Kaitlin C. Bottock, Branch Chief, at (202) 551-6825 (Division of Investment Management, Chief Counsel's Office).

SUPPLEMENTARY INFORMATION: For Applicants' representations, legal analysis, and conditions, please refer to Applicants' third amended and restated application, dated May 5, 2022, which may be obtained via the Commission's website by searching for the file number at the top of this document, or for an Applicant, using the Company name search field on the SEC's EDGAR system.

The SEC's EDGAR system may be searched at http://www.sec.gov/edgar/searchedgar/legacy/companysearch.html. You may also call the SEC's Public Reference Room at (202) 551-8090.

For the Commission, by the Division of Investment Management, under delegated authority.
J. Matthew DeLesDernier,
Assistant Secretary.

[FR Doc. 2022-11086 Filed 5-23-22; 8:45 am]

BILLING CODE 8011-01-P